DEPARTMENT OF ENERGY

Federal Energy Regulatory Commission

Combined Notice of Filings # 1

January 13, 2010.

Take notice that the Commission received the following electric rate filings:

Docket Numbers: ER98-3564-016.

Applicants: FPL Energy Wyman IV LLC.

Description: Notice of Change in Status One Day Out-of-Time of FPL Energy Wyman IV LLC.

Filed Date: 01/12/2010.

Accession Number: 20100112-5138.

Comment Date: 5 p.m. Eastern Time on Tuesday, February 2, 2010.

Docket Numbers: ER08-1281-004.

Applicants: New York Independent System Operator, Inc.

Description: Report on Broader Regional Market Long-Term Solutions to Lake Erie Loop Flow of New York Independent System Operator, Inc.

Filed Date: 01/12/2010.

Accession Number: 20100112-5141.

Comment Date: 5 p.m. Eastern Time on Tuesday, February 2, 2010.

Docket Numbers: ER09-1727-003.

Applicants: Midwest Independent Transmission System Operator, Inc.

Description: Midwest Independent Transmission System Operator, Inc. et al. submits compliance filing.

Filed Date: 01/11/2010.

Accession Number: 20100111-0230.

Comment Date: 5 p.m. Eastern Time on Monday, February 1, 2010.

Docket Numbers: ER10-276-001.

Applicants: Rolling Thunder I Power Partners, LLC.

Description: Rolling Thunder I Power Partners, LLC supplements its 11/17/09 application for a proposed market-based rate wholesale power sales tariff, effective of 12/18/09.

Filed Date: 01/12/2010.

Accession Number: 20100111-0210.

Comment Date: 5 p.m. Eastern Time on Tuesday, February 2, 2010.

Docket Numbers: ER10-482-001.

Applicants: Duke Energy Commercial Enterprises, Inc.

Description: Duke Energy Commercial Enterprises, Inc submits substitute Sheet 1 et al. to FERC Electric Rate Schedule, Third Revised Volume 1.

Filed Date: 01/08/2010.

Accession Number: 20100111-0205.

Comment Date: 5 p.m. Eastern Time on Friday, January 29, 2010.

Docket Numbers: ER10-561-000.

Applicants: Westar Energy, Inc.

Description: Westar Energy, Inc submits Notice of Cancellation to First Revised Rate Schedule FERC 250, the Electric Power Supply Agreement, between Westar and the City of Burlingame Kansas.

Filed Date: 01/07/2010.

Accession Number: 20100107-0213.

Comment Date: 5 p.m. Eastern Time on Thursday, January 28, 2010.

Docket Numbers: ER10-582-000.

Applicants: Midwest Independent Transmission System.

Description: Midwest Independent Transmission System Operator, Inc. submits revisions to Section 8.2 in Attachment X of the Midwest Independent Transmission System Operator, Inc. Open Access Transmission.

Filed Date: 01/12/2010.

Accession Number: 20100112-0202.

Comment Date: 5 p.m. Eastern Time on Tuesday, February 2, 2010.

Docket Numbers: ER10-589-000.

Applicants: El Paso Electric Company.

Description: El Paso Electric Company submits Supplemental 4 to it Rate Schedule FERC 80 and request waiver of the sixty day prior notice requirement to permit the Supplement, to become effective 1/21/10.

Filed Date: 01/13/2010.

Accession Number: 20100113-0204.

Comment Date: 5 p.m. Eastern Time on Wednesday, February 3, 2010.

Docket Numbers: ER10-590-000.

Applicants: PJM Interconnection, LLC.

Description: PJM Interconnection, LLC submits executed Wholesale Market Participation Agreement entered with Milton Regional Sewer Authority et al.

Filed Date: 01/13/2010.

Accession Number: 20100113-0205.

Comment Date: 5 p.m. Eastern Time on Wednesday, February 3, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-1014 Filed 1-20-10; 8:45 am]

BILLING CODE 6717-01-P